DEPARTMENT OF AGRICULTURE

Forest Service

National Advisory Committee for Implementation of the National Forest System Land Management Planning Rule

AGENCY: Forest Service, USDA.

ACTION: Notice of an advisory committee renewal.

SUMMARY: The Secretary of Agriculture has renewed the National Advisory Committee for Implementation of the National Forest System Land Management Planning Rule (Committee). In accordance with provisions of the Federal Advisory Committee Act (FACA), the Committee has been renewed to continue providing advice and recommendations on the implementation of the National Forest System Land Management Planning Rule (Planning Rule). The Committee will also deliberate and formulate advice for the Secretary to aid in the implementation of the new Planning Rule. The Committee is necessary and in the public interest.

DATES: The charter renewal was effective February 3, 2016. As provided by the FACA law, the charter will expire 24 months from the date of renewal.

FOR FURTHER INFORMATION CONTACT: Ann Acheson, U.S. Department of Agriculture, Forest Service, National Forest System, Ecosystem Management Coordination; telephone: 202-205-1275, Email: aacheson@fs.fed.us. Individuals who use telecommunication devices for the deaf (TDD) may call the Federal Information Relay Service (FIRS) at 1-800-877-8339 between 8 a.m. and 8 p.m., Eastern Standard Time, Monday through Friday.

SUPPLEMENTARY INFORMATION:

Background

In accordance with the provisions of the Federal Advisory Committee Act (FACA), as amended (5 U.S.C. App. 2), the Secretary of Agriculture has renewed the National Advisory Committee for Implementation of the National Forest System Land Management Planning Rule (Committee). The Committee is a discretionary advisory committee.

The purpose of the Committee is to provide advice and recommendations on implementation of the planning rule. The Committee will be solely advisory in nature. Advice or recommendations of the Committee will be given only with respect to the implementation of the planning rule and associated projects. All activities of the Committee will be conducted in an open, transparent, and accessible manner. The Committee will be asked to perform the following duties or other requests made by the Secretary or the Chief:

• Offer recommendations on outreach efforts, public engagement, and stakeholder collaboration;

• Offer recommendations on broad scale and multiparty monitoring and other ways to engage partnerships in land management plan revisions;

• Offer recommendations on communication tools and strategies to help provide greater understanding of the land management planning process; and

• Offer recommendations on potential best management practices and problem solving resulting from early implementation of the 2012 Planning Rule.

Advisory Committee Organization

This Committee is currently comprised of 21 members who provide balanced and broad representation within each of the following three categories of interests:

1. Up to seven members who represent one or more of the following:

a. Represent the affected public at-large;

b. Hold State-elected office (or designee);

c. Hold county or local elected office;

d. Represent American Indian Tribes; and

e. Represent Youth.

2. Up to seven members who represent one or more of the following:

a. National, regional, or local environmental organizations;

b. Conservation organizations or watershed associations;

c. Dispersed recreation interests;

d. Archaeological or historical interests; and

e. Scientific Community.

3. Up to seven members who represent one or more of the following:

a. Timber Industry;

b. Grazing or other land use permit holders or other private forest landowners;

c. Energy and mineral development;

d. Commercial or recreational hunting and fishing interests; and

e. Developed outdoor recreation, off-highway vehicle users, or commercial recreation interests.

The Committee will serve 2-year terms and will meet three to six times annually, or as often as necessary at the times designated by the Designated Federal Officer (DFO). The appointment of members to the Committee are made by the Secretary of Agriculture. Members of the Committee serve without compensation, but may be reimbursed for travel expenses while performing duties on behalf of the Committee, subject to approval by the DFO. Further information about the Committee is posted on the Planning Rule Advisory Committee Web site: http://www.fs.usda.gov/main/planningrule/committee.

Equal opportunity practices were followed in accordance with U.S. Department of Agriculture (USDA) policies. To ensure that the recommendations of the Committee have taken into account the needs of the diverse groups served by USDA, membership includes to the extent possible, individuals with demonstrated ability to represent the needs of all racial and ethnic groups, women and men, and persons with disabilities.

Dated: February 17, 2016.
Gregory L. Parhan,
Assistant Secretary for Administration.

[FR Doc. 2016-03900 Filed 2-23-16; 8:45 am]

BILLING CODE 3411-15-P